FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011314-003.

Title: CSVV/Trans Global Cooperative Working Agreement.

Parties: CSAV Sud Americana de Vapores S.A. and Trans Global Shipping N.V.

Filing Party: Walter H. Lion Esq.; McLaughlin & Stern, LLP; 260 Madison Avenue, New York, NY 10016.

Synopsis: The Amendment updates the agreement to reflect current name and address information for CSVV.

Agreement No.: 012312-001.

Title: Grimaldi/Mitsui OSK Lines Ltd. Space Charter Agreement.

Parties: Grimaldi Deep Sea S.p.A. and Mitsui OSK Lines Ltd.

Filing Party: Wayne R. Rohde, Esq.; Cozen O'Connor; 1627 I Street NW.; Suite 1100; Washington, DC 20006.

Synopsis: The Amendment changes the name of Industria Armamento Meridionale S.P.A. to Grimaldi Deep Sea S.p.A., and restates the Agreement accordingly.

Agreement No.: 201219-001.

Title: The Los Angeles and Long Beach Port Infrastructure and Environmental Programs Cooperative Working Agreement.

Parties: City of Los Angeles and City of Long Beach.

Filing Party: Heather M. McCloskey, Deputy City Attorney; Los Angeles City Attorney's Office; 425 S. Palos Verdes Street; San Pedro, CA 90731.

Synopsis: The amendment would restate the agreement to clarify the agreement's purpose and discussion authority to include additional supply chain sectors operating in and around the two ports; to update agreement language regarding the Clean Truck Program; and to address updates to some administrative items. The parties requested expedited review.

By Order of the Federal Maritime Commission.
Dated: February 10, 2015.
Karen V. Gregory,
Secretary.

[FR Doc. 2015-03053 Filed 2-12-15; 8:45 am]

BILLING CODE 6730-01-P